DEPARTMENT OF ENERGY

Federal Energy Regulatory Commission

Combined Notice of Filings

Take notice that the Commission has received the following Natural Gas Pipeline Rate and Refund Report filings:

Filings Instituting Proceedings

Docket Numbers: RP16-865-000.

Applicants: Kinder Morgan Louisiana Pipeline LLC.

Description: § 4(d) Rate Filing: Rate Schedule PALS Cleanup to be effective 5/25/2016.

Filed Date: 4/25/16.

Accession Number: 20160425-5082.

Comments Due: 5 p.m. ET 5/9/16.

Docket Numbers: RP16-866-000.

Applicants: East Tennessee Natural Gas, LLC.

Description: § 4(d) Rate Filing: ETNG 2016 Negotiated Rate Cleanup Filing to be effective 5/26/2016.

Filed Date: 4/25/16.

Accession Number: 20160425-5084.

Comments Due: 5 p.m. ET 5/9/16.

Docket Numbers: RP16-867-000.

Applicants: Texas Eastern Transmission, LP.

Description: § 4(d) Rate Filing: Negotiated Rates—May 2016 Chevron TEAM 2014 Release to be effective 5/1/2016.

Filed Date: 4/25/16.

Accession Number: 20160425-5089.

Comments Due: 5 p.m. ET 5/9/16.

Docket Numbers: RP16-868-000.

Applicants: Cameron Interstate Pipeline, LLC.

Description: Annual Report of Penalty Revenues of Cameron Interstate Pipeline, LLC.

Filed Date: 4/25/16.

Accession Number: 20160425-5212.

Comments Due: 5 p.m. ET 5/9/16.

Docket Numbers: RP16-869-000.

Applicants: Cameron Interstate Pipeline, LLC.

Description: Annual Report of Transportation Imbalances and Cash-out Activity of Cameron Interstate Pipeline, LLC.

Filed Date: 4/25/16.

Accession Number: 20160425-5213.

Comments Due: 5 p.m. ET 5/9/16.

Docket Numbers: RP16-870-000.

Applicants: Cameron Interstate Pipeline, LLC.

Description: Annual Report of Operational Imbalances and Cash-out Activity of Cameron Interstate Pipeline, LLC.

Filed Date: 4/25/16.

Accession Number: 20160425-5214.

Comments Due: 5 p.m. ET 5/9/16.

Docket Numbers: RP16-871-000.

Applicants: Cameron Interstate Pipeline, LLC.

Description: Annual Report of Operational Imbalances and Cash-out Activity of Cameron Interstate Pipeline, LLC.

Filed Date: 4/25/16.

Accession Number: 20160425-5217.

Comments Due: 5 p.m. ET 5/9/16.

Docket Numbers: RP16-872-000.

Applicants: El Paso Natural Gas Company, L.L.C.

Description: § 4(d) Rate Filing: Non-Conforming Negotiated Rate Service Agreement Filing (Anadarko) to be effective 5/25/2016.

Filed Date: 4/25/16.

Accession Number: 20160425-5292.

Comments Due: 5 p.m. ET 5/9/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-1026-001.

Applicants: Maritimes & Northeast Pipeline, L.L.C.

Description: Compliance filing MNUS Settlement Filing to be effective 5/1/2016.

Filed Date: 4/25/16.

Accession Number: 20160425-5216.

Comments Due: 5 p.m. ET 5/9/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2016.
Nathaniel J. Davis, Sr.,
Deputy Secretary.

[FR Doc. 2016-10257 Filed 5-2-16; 8:45 am]

BILLING CODE 6717-01-P